DEPARTMENT OF TRANSPORTATION

Federal Aviation Administration

Notice of Intent To Rule on Request To Release Airport Property at the Panama City-Bay County International Airport (PFN), Panama City, FL

AGENCY: Federal Aviation Administration (FAA), DOT.

ACTION: Notice of Request To Release Airport Property.

SUMMARY: The FAA proposes to rule and invites public comment on the release of land at the Panama City-Bay International Airport (PFN), Panama City, FL under the provisions of 49 U.S.C. 47107(h).

DATES: Comments must be received on or before September 27, 2010.

ADDRESSES: Comments on this application may be mailed or delivered to the FAA at the following address: Rebecca R. Henry, Program Manager, Federal Aviation Administration, Orlando Airports District Office, 5950 Hazeltine National Drive, Suite 400, Orlando, FL 32822-5024.

In addition, one copy of any comments submitted to the FAA must be mailed or delivered to: Randall S. Curtis, A.A.E., Executive Director, Northwest Florida Beaches International Airport, 6300 West Bay Parkway, Panama City, FL 32409.

FOR FURTHER INFORMATION CONTACT: Rebecca R. Henry, Program Manager, Federal Aviation Administration, Orlando Airports District Office, 5950 Hazeltine National Drive, Suite 400, Orlando, FL 32822-5024.

The request to release property may be reviewed, by appointment, in person at this same location.

SUPPLEMENTARY INFORMATION: The FAA invites public comment on the request to release approximately 708 acres of property known as the Panama City-Bay County International Airport (PFN) under the provisions of 49 U.S.C. 47107(h)(2).

On April 19, 2010, the Executive Director of the PFN on behalf of the Panama City-Bay County Airport and Industrial District (Airport Sponsor) notified the FAA that because of the intended opening of the Northwest Florida Beaches International Airport (ECP) in Bay County Florida on May 23, 2010, and the subsequent decommissioning and sale of PFN, he requested full release of the affected property from federal obligations. The ECP was opened to commercial airline operations on May 23, 2010, and commercial airline operations were discontinued at PFN. General aviation operations at PFN are in the process of relocating to ECP and other airports in the region. The FAA has determined that the request to release property at PFN submitted by the Airport Sponsor meets the procedural requirements of the FAA and the release of the property does not and will not impact future aviation needs in the region. The FAA may approve the request in whole no sooner than 30 days after publication of this notice.

The following is a brief overview of the request:

The Airport Sponsor is proposing the release of the entire airport property and associated facilities with the exception of Goose Island which will revert to the Bureau of Land Management. The release of land is necessary to comply with FAA Grant Assurances that do not allow federally acquired airport property to be used for non-aviation purposes. The sale and permanent abandonment of the subject property will result in the lands of PFN being changed from aeronautical to nonaeronautical use and release the lands from the conditions of the AIP Grant Agreement Grant Assurances. In accordance with 49 U.S.C. 47107(c)(2)(B)(i) and (iii), the Airport Sponsor will receive fair market value for the property, which will be subsequently reinvested in another eligible airport improvement project, including the financing of the recently-constructed ECP.

Any person may inspect, by appointment, the request in person at the FAA office listed above under FOR FURTHER INFORMATION CONTACT.

In addition, any person may, upon appointment and request, inspect the application, notice and other documents determined by the FAA to be related to the application in person at the Northwest Florida Beaches International Airport.

Issued in Orlando, Florida, on August 17, 2010.
W. Dean Stringer,
Manager, FAA Orlando Airports District Office.

[FR Doc. 2010-21209 Filed 8-25-10; 8:45 am]

BILLING CODE 4910-13-P